DEPARTMENT OF TRANSPORTATION

Federal Aviation Administration

Receipt of Noise Compatibility Program Update and Request for Review at Naples Airport (APF), Naples, FL

AGENCY: Federal Aviation Administration (FAA), DOT.

ACTION: Notice.

SUMMARY: The FAA announces that it is reviewing a proposed Naples Airport Noise Compatibility Program (NCP) Update submitted by the Naples Airport Authority. This NCP Update was submitted subsequent to a determination by the FAA that the associated Noise Exposure Maps (NEMs) previously submitted for the Naples Airport, were prepared in compliance with applicable requirements. As required by title 14 Code of Federal Regulations part 150, the NCP Update will be approved or disapproved (other than the proposed use of flight procedures for noise control) on or before December 15, 2024. Finally, this notice announces that the proposed NCP Update will be available for public review and comment for 60 days from the publication date of this notice.

DATES: The effective start date of the FAA's 180-day review period for the NCP Update is June 18, 2024. The FAA must issue an approval or disapproval of the NCP Update (other than the proposed use of flight procedures for noise control) on or before December 15, 2024. The public review and comment period ends 60 days from the publication date of this notice.

ADDRESSES: The proposed NCP Update documents are available for examination online at https://www.flynaples.com/noisestudy/part-150-noise-study-documents/ and by appointment at the following location: Federal Aviation Administration, Orlando Airports District Office, 8427 SouthPark Circle, Suite 524, Orlando, Florida 32819. To make an appointment to review a printed copy of the NCP at the Orlando Airports District Office, contact Rebecca Henry at (407) 487-7225.

Please direct questions to the individual named under the heading, FOR FURTHER INFORMATION CONTACT.

FOR FURTHER INFORMATION CONTACT: Peter Green, FAA Southern Region, Office of Airports (ASO-610), 1701 Columbia Avenue, College Park, GA 30337, (404) 305-6718, Peter.M.Green@faa.gov. Comments on the proposed NCP Update should also be submitted to the above office.

SUPPLEMENTARY INFORMATION: The FAA announces that it is reviewing a proposed Noise Compatibility Program Update (NCP) for the Naples Airport, under the provisions of 49 U.S.C. 47501 et seq. (Aviation Safety and Noise Abatement Act (hereinafter referred to as “the Act”)) and title 14 Code of Federal Regulations part 150 (hereinafter referred to as “part 150”) and has found it in compliance with applicable requirements.

As required by part 50, the NCP Update will be approved or disapproved (other than the proposed use of flight procedures for noise control) on or before December 15, 2024. Measures that involve changes to flight procedures require further analysis and are not subject to the 180-day statutory decision deadline. This notice also announces the availability of this NCP Update for public review and comment for 60 days from the publication date of this notice.

Under the Act, an airport operator (hereinafter referred to as Sponsor) who has submitted NEMs that are found by the FAA to be in compliance with the requirements of part 150 may submit for FAA approval a NCP or NCP Update that sets forth the measures the Sponsor has taken, or proposes to take, to reduce existing non-compatible uses and prevent the introduction of additional non-compatible uses within the area covered by the NEMs.

The FAA formally received the NCP Update for the Naples Airport, effective on June 14, 2023. The Naples Airport Authority requested the FAA review this material and that the noise mitigation measures, to be implemented jointly by the Sponsor and surrounding communities, be approved as a NCP Update under the Act. Preliminary reviews of the submitted material indicates that it conforms to part 150 requirements for the submittal of an NCP, but that further review is necessary prior to approval or disapproval of the NCP Update. The formal review period, limited by law to a maximum of 180 days, will be completed on or before December 15, 2024, with the exception of NCP measures that propose the use of flight procedures for noise control. A public hearing on the NCP was held by the Sponsor on March 9, 2023.

The FAA's detailed evaluation will be conducted under the provisions of part 150, § 105.33. The primary considerations in the evaluation process are whether the proposed measures may reduce the level of aviation safety or create an undue burden on interstate or foreign commerce, and whether they are reasonably consistent with obtaining the goal of reducing existing non-compatible land uses and preventing the introduction of additional non-compatible land uses.

Each airport NCP developed in accordance with part 150 is a local program, not a Federal program. The FAA does not substitute its judgment for that of the Sponsor with respect to which measures should be recommended for action. The FAA's approval or disapproval of each specific measure proposed by a Sponsor in an NCP/NCP Update is determined by applying approval criteria prescribed in § 150.35(b) of part 150. Only measures that meet the approval criteria can be approved and considered for Federal funding eligibility. FAA approval or disapproval of a measure only indicates whether that measure would, if implemented, be consistent with the purposes of part 150. When a measure is disapproved by the FAA, Sponsors are encouraged to work with their communities and the FAA, outside of the part 150 process as necessary, to implement initiatives that provide noise benefits for the surrounding community.

Interested persons are invited to comment on the proposed NCP Update with specific reference to these factors. To maximize the effectiveness of comments and the FAA's understanding of them, comments should be as specific as possible, identifying the concern(s) as well as suggested or desired resolution to the concern(s). When possible, quote NCP text and cite details, such as page and section numbers, NCP Update measure number, etc. to which the comment(s) pertain. This commenting procedure is intended to ensure that substantive comments and concerns are made available to the FAA in a timely manner so that the FAA has an opportunity to address them in its Record of Approval. All comments in their entirety become part of the public record, including any personal information provided in the comment including name, address, phone number, etc. All relevant comments, other than those properly addressed to local land use authorities, will be considered by the FAA to the extent practicable.

Issued in Orlando Airports District Office, Orlando, Florida, on June 18, 2024.
Juan C. Brown,
Manager, Orlando Airports District Office,Southern Region.

[FR Doc. 2024-13814 Filed 6-21-24; 8:45 am]

BILLING CODE P